NUCLEAR REGULATORY COMMISSION

[NRC-2009-0410]

Proposed Standard Review Plan; Branch Technical Position 18-1 on Guidance for Evaluating Minimum Inventory of Alarms, Controls, and Displays for New Light-Water Reactor Plant Designs

AGENCY: Nuclear Regulatory Commission (NRC).

ACTION: Solicitation of public comment.

SUMMARY: The NRC is requesting public comment on NUREG-0800, “Standard Review Plan for the Review of Safety Analysis Reports for Nuclear Power Plants,” Branch Technical Position (BTP) 18-1, on Guidance for Evaluating Minimum Inventory of Alarms, Controls, and Displays for New Light Water Reactor Plant Designs (Agencywide Documents Access and Management System (ADAMS) Accession No. ML092330826). This BTP is to be cited as the acceptance criteria for the minimum inventory of controls, displays, and alarms in the Standard Review Plan (SRP) Chapter 18, Section II.A.7, item 8 for those standard designs that have not been certified prior to the date of this BTP. When BTP 18-1 is issued as final, Chapter 18, Section II.A.7, item 8, which currently states, “8. A minimum inventory of controls, displays, and alarms,” will be revised to read, “8. A minimum inventory of controls, displays, and alarms (See the guidance in BTP 18-1 for designs that the NRC has not previously certified).” (Material in parenthesis is added as a pointer to the BTP.)

The NRC staff issues SRPs and BTPs to facilitate timely implementation of current staff guidance and to facilitate activities associated with the review of applications for design certification (DC) and combined licenses (COLs) by the Office of New Reactors (NRO). The NRC staff will also incorporate the revised SRP section and BTP 18-1 into the next revisions of Regulatory Guide 1.206 and any related guidance documents.

DATES: Comments must be filed no later than 60 days from the date of publication of this notice in the Federal Register. Comments received after this date will be considered, if it is practical to do so, but the Commission is able to ensure consideration only for comments received on or before this date.

ADDRESSES: Comments may be submitted to: Mr. Michael T. Lesar, Chief, Rulemaking & Directives Branch, MS: TWB-05-B01M, Office of Administration, U.S. Nuclear Regulatory Commission, Washington, DC 20555-0001.

The NRC maintains ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at PDR.Resource@nrc.gov.

FOR FURTHER INFORMATION CONTACT: Mr. Michael A. Junge, Chief, Operator Licensing and Human Performance Branch, Division of Construction Inspection and Operational Programs, Office of New Reactors, U.S. Nuclear Regulatory Commission, Washington, DC 20555-0001; telephone 301-415-6855 or e-mail at Michael.Junge@nrc.gov.

SUPPLEMENTARY INFORMATION: This SRP, NUREG-0800, has been prepared to establish criteria that the NRO staff use to evaluate if DC and COL applications meet the NRC's regulations. The SRP is not a substitute for the NRC's regulations, and compliance with it is not required. However, applicants are required to identify differences in design features, analytical techniques, and procedural measures proposed for a facility and corresponding SRP acceptance criteria, and evaluate how the proposed alternatives to the acceptance criteria provide an acceptable method of complying with the NRC's regulations.

The agency posts its issued staff guidance in the agency external web page (http://www.nrc.gov/reading-rm/doc-collections/nuregs/staff/sr0800).

The NRC staff is issuing this notice to solicit public comments on proposed BTP 18-1, which is being issued for the first time. After the NRC staff considers any public comments, it will make a determination regarding proposed BTP 18-1.

Dated at Rockville, Maryland, this 11th day of September 2009.
For the Nuclear Regulatory Commission.
William F. Burton,
Chief, Rulemaking and Guidance Development Branch, Division of New Reactor Licensing, Office of New Reactors.

[FR Doc. E9-22557 Filed 9-17-09; 8:45 am]

BILLING CODE 7590-01-P